DEPARTMENT OF THE INTERIOR

National Park Service

National Register of Historic Places; Notification of Pending Nominations and Related Actions

Nominations for the following properties being considered for listing or related actions in the National Register were received by the National Park Service before January 20, 2007. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by February 22, 2007.

J. Paul Loether,
Chief, National Register of Historic Places/National, Historic Landmarks Program.

CALIFORNIA

San Joaquin County

IOOF Lodge #355, 18819 East CA 88, Clements, 07000085

COLORADO

Larimer County

Flowers, Jacob and Elizabeth, House, 5200 W. Cty Rd. 52E, Bellvue, 07000086

GEORGIA

Fannin County

Mineral Bluff Depot, 150 Railroad Ave., Mineral Bluff, 07000089

Fulton County

Southern Spring Bed Company, 300 Martin Luther King, Jr., Dr., Atlanta, 07000088

Telfair County

McRae, Max and Emma Sue, House, 405 S. Second Ave., McRae, 07000087

IDAHO

Nez Perce County

Children's Home Finding and Aid Society of North Idaho, 1805 19th Ave., Lewiston, 07000090

LOUISIANA

Rapides Parish

Bennett Store, Approx. 2 mi. N of US71 and Old Baton Rouge Hwy., Alexandria, 07000104

NEW YORK

Broome County

Saints Cyril and Methodius Slovak Roman Catholic School, 144-146 Clinton St., Binghamton, 07000095

Madison County

DeFerriere House, 2089 Genesee St., Oneida, 07000097

Nassau County

Execution Rocks Light Station, (Light Stations of the United States MPS) In Long Island Sound, 0.9 mi. NNW of N end of NY 101 in Nassau Co., Port Washington, 07000094

Rensselaer County

Breese-Reynolds House, 601 South St., Hoosick, 07000096

NORTH CAROLINA

Craven County

Mount Shiloh Missionary Baptist Church, 307 Scott St., New Bern, 07000093

Guilford County

Smith, William Rankin and Elizabeth Wharton, House, 437 Brightwood Church Rd., NC 2758, 0.62 mi. N of U.S. 70, Whitsett, 07000091

Pitt County

Dickinson Avenue Historic District, 600-900 Blks Dickinson Ave., one blk of side Sts, inc. W. Eighth, Flicklien, S. Pitt, Clark Sts., Atlantic, Albermarle, Greenville, 07000092

SOUTH CAROLINA

Beaufort County

Charleston Navy Yard Officers' Quarters Historic District, Turnbull Ave., Everglades Dr., Navy Way, and portions of Hobson Ave. and Blackstop Dr., North Charleston, 07000100

Greenville County

Stradley and Barr Dry Goods Store, 14 S. Main St., Greenville, 07000099

Orangeburg County

Dantzler Plantation, 2755 Vance Rd., Holly Hill, 07000098

WISCONSIN

Ashland County

Ashland Harbor Breakwater Light, (Light Stations of the United States MPS) Breakwater's NW end in Chequamegon Bay, 2 mi. N of Bay City Ck. mouth, Ashland, 07000103

Douglas County

Superior Enry South Breakwater Light, (Light Stations of the United States MPS) Superior Entry S. Breakwater offshore end. 0.4 mi. NE of Wisconsin Point, Superior, 07000102

Portage County

Temple Beth Israel, 1475 Water St., Stevens Point, 07000101

A request for REMOVAL has been made for the following resource:

LOUISIANA

Rapides Parish

Bennett Store E of Alexandria, on U.S. 71 Alexandria vicinity, 79001083

[FR Doc. E7-1946 Filed 2-6-07; 8:45 am]

BILLING CODE 4312-51-P